FEDERAL EMERGENCY MANAGEMENT AGENCY

44 CFR Part 65

Changes in Flood Elevation Determinations

AGENCY: Federal Emergency Management Agency, FEMA.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency makes the final determinations listed below of modified base flood elevations for each community listed. These modified elevations have been published in newspapers of local circulation and ninety (90) days have elapsed since that publication. The Acting Executive Associate Director has resolved any appeals resulting from this notification.

The modified base flood elevations are not listed for each community in this notice. However, this rule includes the address of the Chief Executive Officer of the community where the modified base flood elevation determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4. National Environmental Policy Act. This rule is categorically excluded from the requirements of 44 CFR part 10, Environmental Consideration. No environmental impact assessment has been prepared.

Regulatory Flexibility Act. The Acting Executive Associate Director, Mitigation Directorate, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Connecticut:
Fairfield (FEMA Docket No. D-7517) | Town of Greenwich | November 15, 2001, November 22, 2001, Greenwich Times | Ms. Lolly H. Prince, First Selectman of the Town of Greenwich, 101 Field Point Road, Greenwich, Connecticut 06830 | Nov. 5, 2001 | 090008 C
Fairfield (FEMA Docket No. D-7519) | Town of Greenwich | December 21, 2001, December 28, 2001, Greenwich Times | Mr. Richard Bergstresser, First Selectman for the Town of Greenwich, 101 Field Point Road, Greenwich, Connecticut 06830 | Dec. 7, 2001 | 090008 C
New Haven (FEMA Docket No. D-7519) | City of Meriden | November 30, 2001, December 7, 2001, Record-Journal | The Honorable Joseph J. Marinan, Jr., Mayor of the City of Meriden, 142 East Main Street, Meriden, Connecticut 06450-8022 | Nov. 19, 2001 | 090081 C
Florida:
Lee (FEMA Docket No. D-7517) | Unincorporated Areas | September 27, 2001, October 4, 2001, News-Press | Mr. Doug St. Cerny, Chairman of the Lee County Board of County Commissioners, P.O. Box 398, Fort Myers, Florida 33902 | Sept. 20, 2001 | 125124 B
Santa Rosa (FEMA Docket No. D-7521) | Unincorporated Areas | December 4, 2001, December 11, 2001, The Pensacola News Journal | Mr. Hunter Walker, Santa Rosa County Administrator, 6495 Caroline Street, Suite D, Milton, Florida 32570-4592 | Nov. 27, 2001 | 120274 C
Sarasota (FEMA Docket No. D-7521) | City of Sarasota | December 5, 2001, December 12, 2001, Sarasota Herald Tribute | The Honorable Carolyn Mason, Mayor of the City of Sarasota, P.O. Box 1058, Sarasota, Florida 34230 | Nov. 28, 2001 | 125150 C
Leon (FEMA Docket No. D-7517) | City of Tallahassee | September 28, 2001, October 5, 2001, Tallahassee Democrat | The Honorable Scott Maddox, Mayor of the City of Tallahassee, 300 South Adams Street, Tallahassee, Florida 32301-1731 | Jan. 4, 2002 | 120144 D
Georgia:
Fulton (FEMA Docket No. D-7521) | City of Alpharetta | October 11, 2001, October 18, 2001, The Review & News | The Honorable Charles E. Martin, Jr., Mayor of the City of Alpharetta, City Hall, 2 South Main Street, Alpharetta, Georgia 30004 | Jan. 17, 2001 | 130084 E
Columbia (FEMA Docket No. D-7521) | Unincorporated Areas | October 25, 2001, November 1, 2001, The Augusta Chronicle | Mr. Barry Fleming, Chairman of the Columbia County Board of Commissioners, 630 Ronald Reagan Drive, Evans, Georgia 30809 | Oct. 18, 2001 | 130059 B
Columbia (FEMA Docket No. D-7521) | Unincorporated Areas | November 8, 2001, November 15, 2001, The Augusta Chronicle | Mr. Barry Flemming, Chairman of the Columbia County Board of Commissioners, 630 Ronald Reagan Drive, Evans, Georgia 30809 | Nov. 1, 2001 | 130059 A
Fulton (FEMA Docket No. D-7521) | Unincorporated Areas | October 25, 2001, November 8, 2001, The Atlanta Daily World | Mr. Thomas Andrews, Fulton County Manager, 141 Pryor Street S.W., Fulton County Government Center, Atlanta, Georgia 30303 | Jan. 31, 2002 | 135160 E
Gwinnett (FEMA Docket No. D-7517) | Unincorporated Areas | September 27, 2001, October 4, 2001, Gwinnett Daily Post | Mr. Wayne Hill, Chairman of the Gwinnett County Board of Commissioners, Justice and Administration Center, 75 Langley Drive, Lawrenceville, Georgia 30045 | Sept. 20, 2001 | 130322 B&C
Gwinnett (FEMA Docket No. D-7515) | Unincorporated Areas | August 23, 2001, August 30, 2001, Gwinnett Daily Post | Mr. Wayne Hill, Chairman of the Gwinnett County Board of Commissioners, Justice and Administration Center, 75 Langley Drive, Lawrenceville, Georgia 30045 | Nov. 29, 2001 | 130322 C
Bibb and Jones (FEMA Docket No. D-7517) | City of Macon | September 25, 2001, October 4, 2001, The Macon Telegraph | The Honorable Jack Ellis, Mayor of the City of Macon, 700 Poplar Street, Macon, Georgia 31201 | Jan. 1, 2002 | 130011 E
Illinois:
Cook (FEMA Docket No. D-7521) | Village of Arlington Heights | November 2, 2001, November 9, 2001, Daily Herald | The Honorable Arlene J. Malder, Mayor of the Village of Arlington Heights, Arlington Heights Village Hall, 33 South Arlington Road, Arlington Heights, Illinois 60005 | Feb. 8, 2002 | 170056 F
Cook | Unincorporated Areas | January 25, 2002, The Daily Southtown | Mr. John H. Stroger, Jr., President, Cook County Board of Commissioners, 118 North Clark Street, Room 537, Chicago, Illinois 60602 | Feb. 24, 2002 | 170054 F
Cook | Village of Willow Springs | January 25, 2002, The Daily Southtown | The Honorable Terrence Carr, Mayor of the Village of Willow Springs, 8156 South Archer Avenue, Willow Springs, Illinois 60480 | Feb. 24, 2002 | 170174 F
Indiana:
Lake (FEMA Docket No. D-7519) | Town of Dyer | December 14, 2001, December 21, 2001, Daily Herald | Mr. Glen Eberly, President, Town of Dyer Board of Trustees, One Town Square, Dyer, Indiana 46311 | Dec. 6, 2001 | 180129 D
Lake (FEMA Docket No. D-7519) | Town of Schererville | December 14, 2001, December 21, 2001, Daily Herald | Mr. Richard Kramer, Manager of the Town of Schererville, 833 West Lincoln Highway, Suite B20W, Schererville, Indiana 46375 | Dec. 6, 2001 | 180142 B
Maine:
York (FEMA Docket No. D-7517) | Town of Alfred | September 27, 2001, October 4, 2001, The Sanford News | Mr. Perley Yeaton, Chairperson of the Board of Selectmen for the Town of Alfred, P.O. Box 667, Alfred, Maine 04002 | Sept. 19, 2001 | 230191C
Aroostook (FEMA Docket No. D-7519) | Town of Fort Fairfield | November 28, 2001, December 5, 2001, Fort Fairfield Press | Mr. Dan K. Foster, Manager of the Town of Fort Fairfield, P.O. Box 350, Fort Fairfield, Maine 04742 | Nov. 19, 2001 | 230018 B
Knox (FEMA Docket No. D-7519) | Town of North Haven | November 22, 2001, November 29, 2001, The Courier-Gazette | Mr. Dake Collins, Town of North Haven Administrator, P.O. Box 400, North Haven, Maine 04853 | Nov. 13, 2001 | 230228 B
Cumberland (FEMA Docket No. D-7521) | Town of Scarborough | November 30, 2001, December 7, 2001, Portland Press Herald | Mr. Ronald W. Owens, Manager of the Town of Scarborough, P.O. Box 360, Scarborough, Maine 04070-0360 | Nov. 19, 2001 | 230052 D
Knox (FEMA Docket No. D-7517) | Town of St. George | October 18, 2001, October 25, 2001, Courier-Gazette | Mr. John Falla, St. George Town Manager, P.O. Box 131, Tenants Harbor, Maine 04860 | Oct. 12, 2001 | 230229 C
Maryland:
Frederick (FEMA Docket No. D-7517) | City of Frederick | November 14, 2001, November 21, 2001, Frederick News Post | The Honorable James Grimes, Mayor of the City of Frederick, 101 North Court Street, Frederick, Maryland 21701 | Oct. 30, 2001 | 240030 B
Frederick (FEMA Docket No. D-7521) | City of Frederick | November 19, 2001, November 26, 2001, Frederick News Post | The Honorable James Grimes, Mayor of the City of Frederick, 101 North Court Street, Frederick, Maryland 21701 | Nov. 1, 2001 | 240030 B
Frederick (FEMA Docket No. D-7517) | Unincorporated Areas | November 14, 2001, November 21, 2001, Frederick News Post | Mr. Ron Hart, Frederick County Manager, 12 East Church Street, Frederick, Maryland 21701 | Oct. 30, 2001 | 240027 B
Massachusetts:
Plymouth (FEMA Docket No. D-7521) | Town of Hanover | December 12, 2001, December 19, 2001, Hanover Mariner | Office of the Chairman of the Board of Selectmen, Town Hall, 550 Hanover Street, Hanover, Massachusetts 02339 | Mar. 13, 2002 | 250266 B
Michigan:
Wayne (FEMA Docket No. D-7517) | Township of Canton | October 18, 2001, October 25, 2001, The Observer & Eccentric | Mr. Thomas J. Yack, Township of Canton Supervisor, 1150 South Canton Center Road, Canton, Michigan 48188 | Jan. 24, 2002 | 260219 B
New Jersey:
Cape May (FEMA Docket No. D-7517) | City of North Wildwood | October 10, 2001, October 17, 2001, The Leader | The Honorable Aldo A. Palombo, Mayor of the City of North Wildwood, Municipal Building, 901 Atlantic Avenue, North Wildwood, New Jersey 08260 | Sept. 19, 2001 | 345308 E
North Carolina:
Wake (FEMA Docket No. D-7513) | Town of Cary | May 24, 2001, May 31, 2001, The Cary News | The Honorable Glenn D. Lang, Mayor of the Town of Cary, P.O. Box 8005, Cary, North Carolina 27512 | August 29, 2001 | 370238 E
Wake (FEMA Docket No. D-7521) | Town of Cary | November 23, 2001, November 30, 2001, The News and Observer | The Honorable Glenn D. Lang, Mayor of the Town of Cary, 318 North Academy Street, P.O. Box 8005, Cary, North Carolina 27512 | July 26, 2001 | 370238 E
Dare (FEMA Docket No. D-7515) | Unincorporated Areas | August 23, 2001, August 30, 2001, Coastland Times | Mr. Moncie L. Daniels, Chairman of the Board of Commissioners, P.O. Box 1000, Manteo, North Carolina 27954 | Aug. 16, 2001 | 375348E
Ohio:
Warren (FEMA Docket No. D-7517) | City of Mason | September 5, 2001, September 12, 2001, Pulse-Journal | The Honorable John McCurley, Mayor of the City of Mason, 202 West Main Street, Mason, Ohio 45040 | Aug. 30, 2001 | 390559 C
Pennsylvania:
Dauphin (FEMA Docket No. D-7521) | Township of East Hanover | November 30, 2001, December 7, 2001, Patriot News | Mr. George Rish, Chairman, Township of East Hanover, Board of Supervisors, 80848 Jonestown Road, Grantville, Pennsylvania 17028 | Nov. 14, 2001 | 420377 B
Carbon (FEMA Docket No. D-7519) | Township of East Penn | November 2, 2001, November 9, 2001, Times News | Mr. Gordon Scherer, Chairman of the Township of East Penn Board of Supervisors, 167 Municipal Road, Lehighton, Pennsylvania 18253 | Oct. 23, 2001 | 421013 B
Dauphin (FEMA Docket No. D-7521) | Township of Swatara | December 7, 2001, December 14, 2001, Patriot News | Mr. Gregory J. Ricci, President of the Township of Swatara Board of Commissioners, 599 Eisenhower Boulevard, Swatara, Pennsylvania 17111-2397 | Mar. 15, 2002 | 420398 B
Puerto Rico:
Common wealth. |  | October 5, 2000, October 12, 2000, El Nuevo Dia | Mr. Jose R. Cabellero Mercado, President de la Junta de, Planificacion de Puerto Rico, El Piso 13, Oficina 1304, Edificio Norte, Centro Gubernamental Minillas, Santurce, Puerto Rico 00940 | Jan. 12, 2001 | 720000
Puerto Rico (FEMA Docket No. D-7517) | Commonwealth | October 12, 2001, October 19, 2001, San Juan Star | The Honorable Sila Maria Calderon, Governor of the Commonwealth of Puerto Rico, P.O. Box 82, La Fortaleza, San Juan, Puerto Rico 00901 | Jan. 18, 2002 | 720000 B&C
South Carolina:
Richland (FEMA Docket No. D-7513) | Unincorporated Areas | June 28, 2001, July 5, 2001, The State | Mr. T. Cary McSwain, Richland County Administrator, 2020 Hampton Street, P.O. Box 192, Columbia, South Carolina 29202 | June 21, 2001 | 450170 G
Richland (FEMA Docket No. D-7521) | Unincorporated Areas | December 17, 2001, December 24, 2001, The State Newspaper | Mr. T. Cary McSwain, Richland County Administrator, P.O. Box 192, 2020 Hampton Street, Columbia, South Carolina 29202 | Dec. 10, 2001 | 450170 G
Tennessee:
Williamson (FEMA Docket No. D-7521) | City of Brentwood | November 23, 2001, November 30, 2001, The Review Appeal | The Honorable Joseph Reagan, Mayor of the City of Brentwood, 5211 Maryland Way, Brentwood, Tennessee 37024 | November 16, 2001 | 470205 C
Shelby (FEMA Docket No. D-7521) | Town of Collierville | October 18, 2001, October 25, 2001, The Collierville Herald | The Honorable Linda Kerley, Mayor of the Town of Collierville, 101 Walnut Street, Collierville, Tennessee 38017-2671 | Jan. 31, 2002 | 470263 E
U.S. Virgin Islands (FEMA Docket No. D-7517) | Island of St. Croix | November 1, 2001, November 8, 2001, The Daily News | The Honorable Charles W. Turnbull, Governor of the U.S. Virgin Islands, Government House, 21-22 Kongens Gade, St. Thomas, Virgin Islands 00802 | Oct. 25, 2001 | 780000 D
Virginia:
Fauquier (FEMA Docket No. D-7517) | Unincorporated Areas | October 18, 2001, October 25, 2001, Fauquier Citizen | Mr. G. Robert Lee, Fauquier County Administrator, 40 Culpeper Street, Warrenton, Virginia 20186 | Jan. 24, 2002 | 510055 A
Henrico (FEMA Docket No. D-7517) | Unincorporated Areas | October 26, 2001, November 1, 2001, The Richmond Times | Mr. Richard Glover, Chairman of the Henrico County, Board of Supervisors, P.O. Box 27032, Richmond, Virginia 23273 | Oct. 12, 2001 | 510077 B

(Catalog of Federal Domestic Assistance No. 83.100, “Flood Insurance”)
Dated: May 15, 2002.
Robert F. Shea,
Acting Administrator, Federal Insurance and Mitigation Administration.

[FR Doc. 02-12657 Filed 5-20-02; 8:45 am]

BILLING CODE 6718-04-P